DEPARTMENT OF HEALTH AND HUMAN SERVICES

Administration for Children and Families

Submission for OMB Review; Child Care and Development Fund (CCDF) for States and Territories for FFY 2019-2021 (ACF-118)

AGENCY: Office of Child Care; Administration for Children and Families; HHS.

ACTION: Request for public comment.

SUMMARY: The Administration for Children and Families (ACF) is requesting a reinstatment of the form ACF-118: Child Care and Development Fund for States and Territories for FFY 2019-2021 (OMB #0970-0114; expired 11/30/2018). There are no changes to the form requested.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The Child Care and Development Fund (CCDF) Plan (the Plan) for States and Territories is required from each CCDF Lead agency in accordance with Section 658E of the Child Care and Development Block Grant Act of 1990 (CCDBG Act), as amended, CCDBG Act of 2014 (Pub. L. 113-186), and 42 U.S.C 9858. The Plan, submitted on the ACF-118, is required triennially, and remains in effect for three years. The Plan provides ACF and the public with a description of, and assurance about the States' and Territories' child care programs. These Plans are the applications for CCDF funds.

This Notice is required by the Paperwork Reduction Act (PRA). The PRA requires Federal agencies to request approval from the Office of Management and Budget (OMB) Office of Information and Regulatory Affairs (OIRA) for any information collection that will ask the same question of ten or more persons. The process includes publication of an initial Federal Register Notice (FRN) allowing 60 days for public comments on the initial plan for information collection, the publication of a second FRN allowing 30 days for public comment on the final proposed information collection, and review and approval by the OMB Office of Information and Regulatory Affairs.

The Office of Child Care (OCC) requested and was granted clearance from the Office of Management and Budget (OMB) for the FY 2019-2021 CCDF Plan Preprint under emergency clearance procedure for six months with an expiration date of November 30, 2018. This Federal Register publication is to reinstate this data collection for states' and territories' Lead Agencies to submit their CCDF Plans. Any comments received will be addressed when OCC revises the Plan Preprint document for the FY 2022-2024 Plan effective period.

This 30-day second Public Comment Period provides an opportunity for the public to submit comments to the OMB.

Respondents: State and Territory Lead Agencies.

Annual Burden Estimates
Instrument | Total number of respondents | Number of responses per respondent | Average burden hours per response | Annual burden hours
ACF-118 | 56 | 0.33 | 200 | 3,696

Estimated Total Annual Burden Hours: 3,696.

Authority: 42 U.S.C. 9858.

Mary B. Jones,
ACF/OPRE Certifying Officer.

[FR Doc. 2019-10652 Filed 5-21-19; 8:45 am]

BILLING CODE 4184-81-P